DEPARTMENT OF ENERGY

Federal Energy Regulatory Commission

[Docket No. EC03-101-000, et al.]

Eagle Energy Partners, Inc., et al.; Electric Rate and Corporate Filings

July 10, 2003.

The following filings have been made with the Commission. The filings are listed in ascending order within each docket classification.

[Docket No. EC03-101-000

1. Eagle Energy Partners, Inc., Eagle Energy Partners I, L.P.

Take notice that on July 3, 2003, Eagle Energy Partners, Inc. (Eagle Inc.) and Eagle Energy Partners I, L.P. (Eagle L.P.) filed with the Federal Energy Regulatory Commission (Commission) an application pursuant to section 203 of the Federal Power Act for authorization of the transfer of Eagle Inc.”s Rate Schedule FERC No. 1 to Eagle L.P.

Comment Date: July 24, 2003.

[Docket Nos. EC03-102-000 and ER03-1016-000]

2. The Cincinnati Gas & Electric Company, The Dayton Power and Light Company, Columbus and Southern Ohio Electric Company

Take notice that on July 1, 2003, The Cincinnati Gas & Electric Company (CG&E), The Dayton Power and Light Company (Dayton) and Columbus and Southern Ohio Electric Company (Columbus) jointly submitted certain joint transmission ownership agreements and amendments thereto, by and among CG&E, Dayton, and Columbus pursuant to sections 205 and 203 of the Federal Power Act.

Comment Date: July 22, 2003.

[Docket Nos. EC03-103-000 and ER03-1026-000]

3. PG&E Dispersed Generating Company, LLC

Take notice that on July 2, 2003, PG&E Dispersed Generating Company, LLC (PG&E Dispersed Gen) filed with the Federal Energy Regulatory Commission (Commission) an application for disposition of jurisdictional facilities under section 203 of the Federal Power Act. PG&E Dispersed Gen requests Commission approval to sell to American Municipal Power-Ohio, Inc. step-up transformers and interconnecting transmission lines associated with three natural-gas fired peaking combustion turbine generating facilities, each with a maximum nominal rated capacity of 49.5 MW, located in Ohio. PG&E Dispersed Gen states that it has also notified the Commission of its intention to terminate a related wholesale power sales contract with PG&E Energy Trading-Power, L.P., Service Agreement No. 1 under FERC Electric Tariff, Original Volume No. 1, effective date November 1, 2001 in Docket No. ER02-449, in connection with the proposed asset sale to AMP-Ohio. PG&E Dispersed Gen has requested a shortened comment period of two weeks.

Comment Date: July 23, 2003.

[Docket No. ER02-2014-012]

4. Entergy Services, Inc.,

Take notice that on July 7, 2003, Entergy Services, Inc., on behalf of the Entergy Operating Companies, Entergy Arkansas, Inc., Entergy Gulf States, Inc., Entergy Louisiana, Inc., Entergy Mississippi, Inc., and Entergy New Orleans, Inc. (collectively Entergy), filed a compliance filing in response to three Commission Orders (103 FERC ¶ 61,270, 103 FERC ¶ 61.271, 104 FERC ¶ 61,011) related to Entergy's Generator Operating Limits procedures. Entergy states that the compliance filing implements revisions to Attachment Q to the Entergy Open Access Transmission Tariff that were required by these orders.

Comment Date: July 28, 2003.

[Docket No. ER02-2330-016]

5. New England Power Pool and ISO New England Inc.

Take notice that on July 7, 2003, the New England Power Pool (NEPOOL) Participants Committee and ISO New England Inc. (ISO-NE) submitted for filing information related to transmission upgrades for Southwest Connecticut to receive socialized cost treatment, and an appropriate percentage of the costs of each project to be socialized, as well as additional explanation for the use of Real-Time Load Obligation Deviations to allocate Operating Reserve Charges in compliance with the Commission's Order, 103 FERC ¶ 61,304.

The NEPOOL Participants Committee and ISO-NE state that copies of these materials were sent to all persons identified on the service lists in the captioned proceedings, the NEPOOL Participants and the six New England state governors and regulatory commissions.

Comment Date: July 28, 2003.

[Docket No. ER03-386-004]

6. Southern Company Services, Inc.

Take notice that on July 7, 2003, Southern Company Services, Inc. (SCS), on behalf of Georgia Power Company, made a compliance filing in accordance with the June 4, 2003, Federal Energy Regulatory Commission's Order, 103 FERC ¶ 61,279.

Comment Date: July 28, 2003.

[Docket Nos. ER03-608-003, ER00-2019-010 and ER01-819-005]

7. California Independent System Operator Corporation

Take notice that on July 7, 2003, the California Independent System Operator Corporation (ISO) tendered for filing in compliance with the Commission's Order of May 30, 2003, 103 FERC ¶ 61,260, (Order) in which the Commission acted on an amendment (Amendment No. 49) to the ISO Tariff. In the Order (at P25), the Commission required that the ISO submit a report identifying the Scheduling Coordinators who are not in compliance with the metering requirement as described in the ISO Tariff, the reasons for the non-compliance, and the anticipated date of compliance.

The ISO states it has served copies of this filing on the Public Utilities Commission of the State of California, the California Energy Commission, the California Electricity Oversight Board, the Participating Transmission Owners under the ISO Tariff, all parties with effective Scheduling Coordinator Service Agreements under the ISO Tariff, and to all parties not among the foregoing on the restricted service list. The ISO also states that this filing will be posted on the ISO's Web site.

Comment Date: July 28, 2003.

[Docket Nos. ER03-932-001 and ER03-296-003]

8. Flying Cloud Power Partners, LLC

Take notice that on July 7, 2003, Flying Cloud Power Partners, LLC (Flying Cloud) and Heartland Wind LLC (Heartland Wind) amended its Notice of Change in Status for Approval of Market-Based Rate Authority, and Filing of Code of Conduct and Conforming Changes to Market-Based Rate Schedule filed with the Federal Energy Regulatory Commission on June 5, 2003. Flying Cloud and Hartland Wind state that the amendment reflects changes to the Rate Schedule to conform to Commission precedent and practice regarding affiliate transactions (see 101 FERC ¶ 61,331). Flying Cloud and Heartland Wind request a waiver of the 60-day notice and 120-day prefiling requirements under 18 CFR 35.3.

Comment Date: July 28, 2003.

[Docket No. ER03-960-001]

9. PG Power Sales One, L.L.C.

Take notice that on July 7, 2003, PG Power Sales One, L.L.C. (PG Power) tendered for filing an amendment to the Notice of Cancellation filed on June 16, 2003 in Docket No. ER03-960-000. PG Power states that it is proposing to amend the June 16, 2003 filing to remove the Notice of Cancellation submitted for PG Power. PG Power explains that it is proposing to void the Notice of Cancellation of its market-based tariff because it will continue to engage in the sale of electricity at wholesale and the previous Notice of Cancellation was erroneously filed.

Comment Date: July 28, 2003.

[Docket No. ER03-1035-000]

10. International Falls Power Company

Take notice that on July 7, 2003, International Falls Power Company (IFPC) filed with the Commission a Notice of Termination of IFPC's market-based rate tariff. IFPC requests waiver of the Commission's prior notice requirements so that the termination may be effective July 15, 2003.

Comment Date: July 28, 2003.

[Docket No. ER03-1036-000]

11. PJM Interconnection, L.L.C.

Take notice that on July 3, 2003, PJM Interconnection, L.L.C. (PJM), submitted for filing a revised interconnection service agreement and an interim interconnection service agreement that PJM has executed between ConocoPhillips Company and PPL Holtwood, L.L.C., respectively, and a Notice of Cancellation for an agreement that has been superseded.

PJM requests a waiver of the Commission's 60-day notice requirement to permit an effective date of June 4, 2003 for the agreements. PJM states that copies of this filing were served upon the parties to the agreements and the state regulatory commissions within the PJM region.

Comment Date: July 24, 2003.

[Docket No. ER03-1037-000]

12. Entergy Services, Inc.

Take notice that on July 3, 2003, Entergy Services, Inc., (Entergy Services) on behalf of Entergy Arkansas, Inc., Entergy Gulf States, Inc., Entergy Louisiana, Inc., Entergy Mississippi, Inc., and Entergy New Orleans, Inc., tendered for filing an Amendment to the Service Agreement for Network Integration Transmission Service and Network Operating Agreement between Entergy Services and the City of North Little Rock, Arkansas.

Comment Date: July 24, 2003.

[Docket No. ER03-1038-000]

13. Florida Power & Light Company

Take notice that on July 7, 2003, Florida Power & Light Company (FPL) tendered for filing with the Federal Energy Regulatory Commission pursuant to section 205 of the Federal Power Act an executed Interconnection and Operating Agreement between FPL and FPL Energy Seabrook, LLC (FPLE Seabrook) that sets forth the terms and conditions governing the interconnection of FPLE Seabrook's generating facility to FPL's 345 kV substation.

Comment Date: July 28, 2003.

[Docket No. ER03-1039-000

14. Ampro Energy Wholesale, Inc.

Take notice that on July 7, 2003, Ampro Energy Wholesale, Inc. (AmPro Wholesale) petitioned the Commission for acceptance of AmPro Wholesale Rate Schedule FERC No. 1; the granting of certain blanket approvals, including the authority to sell electricity at market-based rates; and the waiver of certain Commission regulations.

AmPro Wholesale states that it intends to engage in wholesale electric power and energy purchases and sales as a marketer. AmPro Wholesale also states that it is not in the business of generating or transmitting electric power.

Comment Date: July 28, 2003.

[Docket No. ER03-1040-000]

15. Trident Energy Marketing, Inc.

Take notice that on July 7, 2003, Trident Energy Marketing, Inc., submitted for filing a Notice of Cancellation of its market-based rate tariff and a request for relief of the EQR filing requirements.

Comment Date: July 28, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings. Secretary.

Magalie R. Salas,
Secretary.

[FR Doc. 03-18216 Filed 7-16-03; 8:45 am]

BILLING CODE 6717-01-P